DEPARTMENT OF HOUSING AND URBAN DEVELOPMENT

[Docket No. FR-5669-N-01]

Notice of Intent To Prepare an Environmental Impact Statement (EIS) for the Halletts Point Rezoning Project, Queens, NY

AGENCY: Office of the Assistant Secretary for Community Planning and Development, HUD.

ACTION: Notice of Intent to Prepare an EIS.

SUMMARY: This provides notice to the public, agencies, and Indian tribes that the City of New York—Department of Housing Preservation & Development (HPD), as the Responsible Entity in accordance with 24 CFR 58.2(a)(7), and the New York City Department of City Planning (DCP) serving as lead agency on behalf of the City Planning Commission (CPC) in accordance with City Environmental Quality Review (CEQR), Executive Order No. 91, and the New York State Environmental Quality Review Act (SEQRA), 6 NYCRR 617, intend to prepare a Draft Environmental Impact Statement (EIS) for the Halletts Point Rezoning Project. The EIS will be a joint National Environmental Policy Act (NEPA) and CEQR document. The EIS will satisfy requirements of SEQR (6 NYCRR 617.8) and CEQR (Sections 6-08 and 6-12 of Executive Order No. 91 of 1977 as amended), which require that state and local government agencies consider the environmental consequences of projects over which they have discretionary authority before acting on those projects. The proposed action is subject to NEPA because the proposed disposition of NYCHA property at Astoria Houses will require a federal approval from HUD under Section 18 of the U.S. Housing Act of 1937. This notice is in accordance with the Council on Environmental Quality (CEQ) regulations at 40 CFR parts 1500-1508.

A Draft EIS will be prepared for the proposed action described herein. Comments relating to the Draft EIS are requested and will be accepted by the contact person listed below. When the Draft EIS is completed, a notice will be sent to individuals and groups known to have an interest in the Draft EIS and particularly in the environmental impact issues identified therein. Any person or agency interested in receiving a notice and making comment on the Draft EIS should contact the person listed below up to 30 days following publication of this notice.

The EIS will be a NEPA document intended to satisfy requirements of federal environmental statutes. In accordance with specific statutory authority at Section 26 of the U.S. Housing Act (42 U.S.C. 1437x) and HUD's regulations at 24 CFR part 58 (Environmental Review Procedures for Entities Assuming HUD Environmental Responsibilities), HUD has provided for assumption of its NEPA authority and NEPA lead agency responsibility by HPD. The EIS will be a CEQR document intended to satisfy State and City environmental statutes as described above.

ADDRESSES: All interested agencies, tribes, groups, and persons are invited to submit written comments on the project named in this notice and on the Draft EIS to the contact person shown in this notice. The office of the contact person should receive comments and all comments so received will be considered prior to the preparation and distribution of the Draft EIS. Particularly solicited is information on reports or other environmental studies planned or completed in the project area, major issues that the EIS should consider, recommended mitigation measures, and alternatives associated with the proposed action. Federal agencies having jurisdiction by law, special expertise, or other special interest should report their interest and indicate their readiness to aid in the EIS effort as a “Cooperating Agency.”

FOR FURTHER INFORMATION CONTACT: Patrick Blanchfield, Director of Environmental Planning, City of New York—Department of Housing Preservation & Development, 100 Gold Street, Room 9I-7, New York, NY 10038; Fax: (212) 863-5052; email: blanchfp@hpd.nyc.gov.

SUPPLEMENTARY INFORMATION:

A. Background

HPD, acting under authority of Section 26 of the United States Housing Act of 1937 and HUD's regulations at 24 CFR part 58, in cooperation with other interested agencies, will prepare an EIS to analyze potential impacts of the Halletts Point Rezoning Project.

The proposed new development would occur on approximately 9.65 acres in the Astoria neighborhood of Queens, New York, adjacent to the East River on the Halletts Point peninsula. The project site affected by the proposed actions comprises all or portions of eight tax lots: Block 913, Lot 1; Block 915, Lot 6; Block 916, Lots 1 and 10; Block 490, Lots 1, 11, 100, and 101. In total, there would be development of twelve buildings. Building 1 (Block 915, Lot 6) would be located on the block bounded by 27th Avenue to the south, 1st Street to the west, 26th Avenue to the north, and 2nd Street to the east. Buildings 2 through 5 (Block 490, Lots 1 and 11 and Block 916, Lots 1 and 10), including the mapped streetbeds of 26th and 27th Avenues between 1st Street and the East River, would be bounded by Hallet's Cove Playground (Block 490, Lot 100) to the south, the East River to the west, Whitey Ford Field (Block 913, Lot 1) to the north, and 1st Street to the east. The land on which Buildings 1 through 5would be constructed is privately owned. The privately owned portions of the project site consist of light industrial uses, vacant buildings, and open land used for temporary storage of vehicles and equipment.

Buildings 6 through 8 would be located within the existing New York City Housing Authority (NYCHA) Astoria Houses campus (Block 490, Lot 101) bounded by 27th Avenue, 1st Street, and 8th Street. The Astoria Houses contains 22 six- and seven-story residential buildings on an approximately 27-acre campus with a total of 1,103 residential units, as well as surface parking lots, a day care center and senior center, basketball courts and playgrounds, walkways, and other landscaped areas. The campus was completed in 1951. The project requires the disposition of three parcels of public housing property within Astoria Houses to private developers for the construction of residential buildings with ground floor retail space. The existing uses on these sites, including parking and trash facilities, would be relocated elsewhere within the Astoria Houses campus. Additionally, the project would include a public easement on Astoria Houses property to allow for Astoria Boulevard, which currently terminates in two cul-de-sacs, to become a through street bisecting the Astoria Houses development.

In order to facilitate the proposed mixed-use development project, discretionary approvals from the City Planning Commission (CPC) would be required, including a number of zoning map changes; zoning text amendments; Large-Scale General Development (LSGD) special permits related to bulk; waterfront special permits, authorizations, and certifications; and mapping actions. These discretionary approvals are subject to review under the City's Uniform Land Use Review Procedure (ULURP), which requires a determination pursuant to CEQR. In addition to the proposed actions subject to CPC approval, the proposed project will require approval from other City, State, and Federal agencies, including disposition of public housing property (i.e., NYCHA property), use of development rights associated with lands underwater, jurisdictional transfer of parkland, and potential financing approval for affordable housing.

The proposed actions would facilitate the development of a total of approximately 2.67 million gross square feet (gsf) consisting of a total of approximately 2.15 million gsf of residential space (2,573 housing units including 2,161 market-rate and 412 affordable housing units); approximately 68,000 gsf of retail space; and approximately 1,253 garage parking spaces and 85 on-site surface parking spaces. The proposed project would also include approximately 96,000 sf (2.2 acres) of publicly accessible open space, including a waterfront esplanade along the East River and upland connections to 1st Street. In addition, it is expected that a number of street improvements and improvements to stormwater and sanitary sewer infrastructure would be provided to support the new development.

The new development on Buildings 1 through 5 would consist of seven new buildings with high-rise towers rising from low- to mid-rise bases. On Buildings 1 through 5, the proposed project would include residential, retail, and parking uses in low- to mid-rise bases and residential uses in high-rise towers. The low- to mid-rise bases would include one level of below-grade parking and up to four floors of additional parking above-grade. The above-grade parking would be located in the building cores, wrapped by residential and retail uses. The residential uses wrapping the parking garages would consist of townhouses below apartment units. Ground floor retail would line portions of 1st Street and the demapped portion of 27th Avenue, leading to the waterfront. An approximately 30,000 gsf retail space (designed for a supermarket use) would be located on the ground floor of Building 1. The parking garages in the building cores may be topped by a rooftop terrace for use by the buildings' tenants. The structures on Buildings 1 through 5 would range from 16 to 30 stories in height (160 to 300 feet). The low- to mid-rise bases would be a minimum of four stories and would range from approximately 40 to 80 feet in height. Buildings 6 and 7 would contain four new mid-rise buildings rising to a maximum height of 100 feet and 110 feet, respectively (10 and 11 stories). These structures would contain residential and retail uses and surface parking. Local retail uses would be located along 27th Avenue and surface parking lots would be provided at the rear of the buildings. In addition to the Applicant's proposed development program for Buildings 1 through 7, the proposed actions would facilitate a proposal by NYCHA to dispose of the site for Building 8 along Astoria Boulevard for development pursuant to a future RFP. Building 8 would contain one new high-rise building rising to a maximum height of 240 feet (24 stories). This structure would contain market-rate residential units and retail uses and garage parking. Local retail uses would be located on Astoria Boulevard at the intersection of 1st Street.

Alternatives to the Proposed Action

Alternatives to the proposed action will be analyzed in the EIS. Typically the alternatives section in an EIS is examines development options that would tend to reduce project-related impacts. The full range of alternatives will be defined when the full extent of the proposed project's impacts is identified, but at this time, it is anticipated that they will include the following:

Alternative 1—No Action Alternative

The No Action Alternative would analyze the continuation of uses on the site; therefore, existing buildings and tenants would remain at the project site and no new buildings or uses would be constructed.

Alternative 2—No Unmitigated Adverse Impacts Alternative

If significant adverse impacts are identified in the EIS, the No Adverse Impacts Alternative will describe the modifications to the project that would be needed to avoid any such impacts.

Other possible alternatives may be developed in consultation with DCP, NYCHA, and HPD during the EIS preparation process and may be suggested by the public during the scoping of the EIS.

B. Need for the EIS

The proposed project may constitute an action significantly affecting the quality of the human environment and an EIS will be prepared on this project in accordance with CEQR and NEPA. Responses to this notice will be used to: (1) Determine significant environmental issues, (2) identify data that the EIS should address, and (3) identify agencies and other parties that will participate in the EIS process and the basis for their involvement.

C. Scoping

A public EIS scoping meeting will be held on a date within the comment period and after at least 15 days of publishing this Notice of Intent. Notices of the scoping meeting will be published in the New York City Record and a newspaper of general circulation when the date has been determined. The EIS scoping meeting, which will also satisfy the scoping meeting requirement for CEQR, will provide an opportunity for the public to learn more about the project and provide input to the environmental process. At the meeting, an overview of the project will be presented and members of the public will be invited to comment on the proposed project and the scope of work for the environmental analyses in the EIS. Written comments and testimony concerning the scope of the EIS will be accepted at this meeting. In accordance with 40 CFR 1501.7, affected Federal, State, and local agencies, any affected Indian tribe, and other interested parties will be sent a scoping notice. In accordance with 24 CFR 58.59, the scoping hearing will be preceded by a notice of public hearing published in the local news media at least 15 days before the hearing date.

D. Probable Environmental Effects

The following subject areas will be analyzed in the combined EIS for probable environmental effects: Land Use, Zoning, and Public Policy; Socioeconomic Conditions; Community Facilities and Services; Open Space; Shadows; Historic Resources; Urban Design/Visual Resources; Natural Resources (including a floodplain analysis); Hazardous Materials; Water and Sewer Infrastructure; Solid Waste and Sanitation Services; Energy; Transportation (including traffic, parking, pedestrian conditions, and transit); Air Quality; Greenhouse Gases; Noise; Neighborhood Character; Construction Impacts; Public Health; and Environmental Justice.

Questions may be directed to the individual named in this notice under the heading FOR FURTHER INFORMATION CONTACT.

Dated: November 8, 2012.
Mark Johnston,
Assistant Secretary for Community Planning and Development (Acting).

[FR Doc. 2012-27987 Filed 11-15-12; 8:45 am]

BILLING CODE 4210-67-P